DEPARTMENT OF HOMELAND SECURITY

Federal Emergency Management Agency

[Docket ID FEMA-2018-0002]

Changes in Flood Hazard Determinations

AGENCY: Federal Emergency Management Agency, DHS.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities. The flood hazard determinations modified by each LOMR will be used to calculate flood insurance premium rates for new buildings and their contents.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

For rating purposes, the currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP and are used to calculate the appropriate flood insurance premium rates for new buildings, and for the contents in those buildings. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

David I. Maurstad,
Deputy Associate Administrator for Insurance and Mitigation, Department of Homeland Security, Federal Emergency Management Agency.

State and county | Location and case No. | Chief executive officer of community | Community map repository | Date of modification | Community No.
Alabama:
Colbert (FEMA Docket No.: B-1845) | City of Muscle Shoals (17-04-1041P) | The Honorable David H. Bradford, Mayor, City of Muscle Shoals, P.O. Box 2624, Muscle Shoals, AL 35662 | Engineering Department, 2010 East Avalon Avenue, Muscle Shoals, AL 35662 | Sept. 24, 2018 | 010047
Colbert (FEMA Docket No.: B-1845) | Unincorporated areas of Colbert County (17-04-1041P) | The Honorable Daroll Bendall, Chairman, Colbert County Board of Commissioners, 201 North Main Street, Tuscumbia, AL 35674 | Colbert County Courthouse, 201 North Main Street, Tuscumbia, AL 35674 | Sept. 24, 2018 | 010318
Mobile (FEMA Docket No.: B-1840) | City of Semmes (18-04-1945P) | The Honorable David Baker, Mayor, City of Semmes, P.O. Box 1757, Semmes, AL 36575 | City Hall, 7875 Moffett Road Unit #F, Semmes, AL 36575 | Sept. 10, 2018 | 015016
Mobile (FEMA Docket No.: B-1840) | Unincorporated Areas of Mobile County (18-04-1945P) | The Honorable Connie Hudson, Chair, Mobile County Board of Commissioners, 205 Government Street Mobile, AL 36644 | Mobile County Engineering Department, 205 Government Street, Mobile, AL 36644 | Sept. 10, 2018 | 015008
Colorado:
Boulder (FEMA Docket No.: B-1840) | City of Boulder (18-08-0166P) | The Honorable Suzanne Jones, Mayor, City of Boulder, P.O. Box 791, Boulder, CO 80306 | Planning and Development Services Department, 1739 Broadway, Boulder, CO 80302 | Oct. 3, 2018 | 080024
Eagle (FEMA Docket No.: B-1840) | Town of Basalt (17-08-1316P) | Mr. Ryan Mahoney, Manager, Town of Basalt, 101 Midland Avenue, Basalt, CO 81621 | Town Hall, 101 Midland Avenue, Basalt, CO 81621 | Sep. 28, 2018 | 080052
Eagle (FEMA Docket No.: B-1840) | Unincorporated areas of Eagle County (17-08-1316P) | The Honorable Kathy Chandler-Henry, Chair, Eagle County Board of Commissioners, P.O. Box 850, Eagle, CO 81631 | Eagle County Building and Engineering Department, 500 Broadway Street, Eagle, CO 81631 | Sep. 28, 2018 | 080051
El Paso (FEMA Docket No.: B-1840) | Unincorporated areas of El Paso County (18-08-0013P) | The Honorable Darryl Glenn, President, El Paso County, Board of Commissioners, 200 South Cascade Avenue, Suite 100, Colorado Springs, CO 80903 | Pikes Peak Regional Building Department, 2880 International Circle, Colorado Springs, CO 80910 | Oct. 3, 2018 | 080059
Jefferson (FEMA Docket No.: B-1840) | City of Westminster (18-08-0279P) | The Honorable Herb Atchison, Mayor, City of Westminster, 4800 West 92nd Avenue, Westminster, CO 80031 | Engineering Department, 4800 West 92nd Avenue, Westminster, CO 80031 | Sep. 21, 2018 | 080008
Jefferson (FEMA Docket No.: B-1845) | Unincorporated areas of Jefferson County (18-08-0676X) | The Honorable Libby Szabo, Chair, Jefferson County Board of Commissioners, 100 Jefferson County Parkway, Golden, CO 80419 | Jefferson County Department of Planning and Zoning, 100 Jefferson County Parkway, Golden, CO 80419 | Oct. 5, 2018 | 080087
Larimer (FEMA Docket No.: B-1840) | Town of Wellington (17-08-1283P) | The Honorable Troy Hamman, Mayor, Town of Wellington, P.O. Box 127, Wellington, CO 80549 | Town Hall, 3735 Cleveland Avenue, Wellington, CO 80549 | Oct. 9, 2018 | 080104
Larimer (FEMA Docket No.: B-1840) | Unincorporated areas of Larimer County (17-08-1283P) | The Honorable Steve Johnson, Chairman, Larimer County Board of Commissioners, P.O. Box 1190, Fort Collins, CO 80522 | Larimer County Engineering Department, 200 West Oak Street, Suite 3000, Fort Collins, CO 80522 | Oct. 9, 2018 | 080101
Pitkin (FEMA Docket No.: B-1840) | Unincorporated areas of Pitkin County (17-08-1316P) | The Honorable Patti Clapper, Chair, Pitkin County Board of Commissioners, 530 East Main Street, Suite 302, Aspen, CO 81611 | Pitkin County Building Department, 530 East Main Street, Suite 205, Aspen, CO 81611 | Sep. 28, 2018 | 080287
Florida:
Broward (FEMA Docket No.: B-1840) | City of Fort Lauderdale (18-04-3005P) | The Honorable Dean J. Trantalis, Mayor, City of Fort Lauderdale, 100 North Andrews Avenue, Fort Lauderdale, FL 33311 | Building Services Department, 700 Northwest 19th Avenue, Fort Lauderdale, FL 33311 | Oct. 3, 2018 | 125105
Broward (FEMA Docket No.: B-1840) | Unincorporated areas of Broward County (18-04-3005P) | The Honorable Bertha Henry, Administrator, Broward County, 115 South Andrews Avenue, Fort Lauderdale, FL 33301 | Broward County Environmental Engineering and Permitting Division, 1 North University Drive, Plantation, FL 33324 | Oct. 3, 2018 | 125093
Collier (FEMA Docket No.: B-1840) | City of Naples (18-04-2880P) | The Honorable Bill Barnett, Mayor, City of Naples, 735 8th Street South, Naples, FL 34102 | Building Department, 295 Riverside Circle, Naples, FL 34102 | Sep. 19, 2018 | 125130
Orange (FEMA Docket No.: B-1840) | Unincorporated areas of Orange County (17-04-3962P) | The Honorable Teresa Jacobs, Mayor, Orange County, 201 South Rosalind Avenue, 5th Floor, Orlando, FL 32801 | Orange County Stormwater Management Department, 4200 South John Young Parkway, Orlando, FL 32839 | Oct. 4, 2018 | 120179
Osceola (FEMA Docket No.: B-1840) | Unincorporated areas of Osceola County (18-04-3037X) | The Honorable Fred Hawkins, Jr., Chairman, Osceola County Board of Commissioners, 1 Courthouse Square, Suite 4700, Kissimmee, FL 34741 | Osceola County Stormwater Department, 1 Courthouse Square, Suite 1400, Kissimmee, FL 34741 | Sep. 28, 2018 | 120189
Sarasota (FEMA Docket No.: B-1840) | Unincorporated areas of Sarasota County (18-04-3583P) | The Honorable Nancy C. Detert, Chair, Sarasota County Board of Commissioners, 1660 Ringling Boulevard, Sarasota, FL 34236 | Sarasota County Planning and Development Services Department, 1001 Sarasota Center Boulevard, Sarasota, FL 34240 | Oct. 1, 2018 | 125144
Kentucky: Hardin (FEMA Docket No.: B-1840) | City of Elizabethtown (18-04-2385P) | The Honorable Edna Berger, Mayor, City of Elizabethtown, P.O. Box 550, Elizabethtown, KY 42702 | Department of Stormwater Management, 200 West Dixie Avenue, Elizabethtown, KY 42702 | Sep. 28, 2018 | 210095
Maryland: Baltimore (FEMA Docket No.: B-1840) | Unincorporated areas of Baltimore County (17-03-2477P) | The Honorable Kevin Kamenetz, Baltimore County Executive, 400 Washington Avenue, Towson, MD 21204 | Baltimore County Planning Department, 105 West Chesapeake Avenue, Suite 101, Towson, MD 21204 | Sep. 19, 2018 | 240010
New Hampshire: Cheshire (FEMA Docket No.: B-1840) | Town of Jaffrey (17-01-2389P) | Mr. Jon Frederick, Manager, Town of Jaffrey, 10 Goodnow Street, Jaffrey, NH 03452 | Town Hall, 10 Goodnow Street, Jaffrey, NH 03452 | Sep. 28, 2018 | 330215
New Mexico: Bernalillo (FEMA Docket No.: B-1845) | Unincorporated areas of Bernalillo County (18-06-0450P) | Ms. Julie Morgas Baca, Bernalillo County Manager, 1 Civic Plaza Northwest, Albuquerque, NM 87102 | Bernalillo County Public Works Division, 2400 Broadway Boulevard Southeast, Albuquerque, NM 87102 | Oct. 5, 2018 | 350001
North Carolina:
Greene (FEMA Docket, No.: B-1848) | Unincorporated areas of Greene County (18-04-2055P) | The Honorable Bennie Heath, Chairman, Board of, Commissioners, 229 Kingold Boulevard, Suite D, Snow Hill, NC 28580 | Greene County Department of Building Inspections, 104 Hines Street, Snow Hill, NC 28580 | Oct. 5, 2018 | 370378
Pitt (FEMA Docket, No.: B-1848) | Unincorporated areas of Pitt County (18-04-2055P) | The Honorable Mark W. Owens, Jr., Chairman, Board of, Commissioners, 1717 West 5th Street, Greenville, NC 27834 | Pitt County Planning Department, 1717 West 5th Street, Greenville, NC 27834 | Oct. 5, 2018 | 370372
Watauga (FEMA Docket No.: B-1845) | Town of Boone (18-04-0473P) | The Honorable Rennie Brantz, Mayor, Town of Boone, 567 West King Street, Boone, NC 28607 | Planning and Inspections Department, 680 West King Street, Boone, NC 28607 | Oct. 4, 2018 | 370253
Watauga (FEMA Docket No.: B-1845) | Unincorporated Areas of Watauga County (18-04-0473P) | The Honorable John Welch, Chairman, Watauga County Board of Commissioners, 814 West King Street, Suite 205, Boone, NC 28607 | Watauga County Planning and Inspections Department, 331 Queen Street, Suite A, Boone, NC 28607 | Oct. 4, 2018 | 370251
North Dakota: Cass (FEMA Docket No.: B-1840) | City of Fargo (17-08-1355P) | The Honorable Tim Mahoney, Mayor, City of Fargo, 200 3rd Street North, Fargo, ND 58102 | City Hall, 200 3rd Street North, Fargo, ND 58102 | Sep. 18, 2018 | 385364
South Dakota:
Codington (FEMA Docket No.: B-1840) | City of Watertown (18-08-0263P) | The Honorable Sarah Caron, Mayor, City of Watertown, P.O. Box 910, Watertown, SD 57201 | Engineering Department, 23 2nd Street Northeast, Watertown, SD 57201 | Sep. 28, 2018 | 460016
Codington (FEMA Docket No.: B-1840) | Unincorporated areas of Codington County (18-08-0263P) | The Honorable Myron Johnson, Chairman, Codington County Board of Commissioners, P.O. Box 910, Watertown, SD 57201 | Codington County Extension Complex, Zoning Office, 1910 West Kemp Avenue, Watertown, SD 57201 | Sep. 28, 2018 | 460260
Minnehaha (FEMA Docket No.: B-1840) | City of Dell Rapids (17-08-1525P) | The Honorable Tom Earley, Mayor, City of Dell Rapids, P.O. Box 10, Dell Rapids, SD 57022 | City Hall, 302 East 4th Street, Dell Rapids, SD 57022 | Oct. 1, 2018 | 460059
Minnehaha (FEMA Docket No.: B-1840) | Unincorporated areas of Minnehaha County (17-08-1525P) | The Honorable Cindy Heiberger, Chair, Minnehaha County, Board of Commissioners, 415 North Dakota Avenue, Sioux Falls, SD 57104 | Minnehaha County Planning and Zoning Department, 415 North Dakota Avenue, Sioux Falls, SD 57104 | Oct. 1, 2018 | 460057
Texas:
Bexar (FEMA Docket No.: B-1840) | City of San Antonio (18-06-0004P) | The Honorable Ron Nirenberg, Mayor, City of San Antonio, P.O. Box 839966, San Antonio, TX 78283 | Transportation and Capital Improvements Department, Storm Water Division, 1901 South Alamo Street, 2nd Floor, San Antonio, TX 78204 | Sep. 24, 2018 | 480045
Bexar (FEMA Docket No.: B-1840) | Unincorporated areas of Bexar County (18-06-0004P) | The Honorable Nelson W. Wolff, Bexar County Judge, 101 West Nueva Street, 10th Floor, San Antonio, TX 78205 | Bexar County Public Works Department, 233 North Pecos-La Trinidad Street, Suite 420, San Antonio, TX 78207 | Sep. 24, 2018 | 480035
Collin (FEMA Docket No.: B-1840) | City of Allen (18-06-0216P) | The Honorable Stephen Terrell, Mayor, City of Allen, 305 Century Parkway, Allen, TX 75013 | Engineering Department, 305 Century Parkway, Allen, TX 75013 | Sep. 21, 2018 | 480131
El Paso (FEMA Docket No.: B-1840) | City of El Paso (17-06-3843P) | Mr. Tommy Gonzalez, Manager, City of El Paso, 300 North Campbell Street, El Paso, TX 79901 | City Hall, 801 Texas Avenue, El Paso, TX 79901 | Sep. 24, 2018 | 480214
Harris (FEMA Docket No.: B-1840) | City of Houston (17-06-3450P) | The Honorable Sylvester Turner, Mayor, City of Houston, P.O. Box 1562, Houston, TX 77251 | Floodplain Management Department, 1002 Washington Avenue, 3rd Floor, Houston, TX 77002 | Sep. 24, 2018 | 480296
Harris (FEMA Docket No.: B-1840) | City of Hunter's Creek Village (17-06-3450P) | The Honorable Jim Pappas, Mayor, City of Hunter's Creek Village, 1 Hunters Creek Place, Houston, TX 77024 | City Hall, 1 Hunters Creek Place, Houston, TX 77024 | Sep. 24, 2018 | 480298
Hidalgo (FEMA Docket No.: B-1840) | Unincorporated areas of Hidalgo County (18-06-0700P) | The Honorable Ramon Garcia, Hidalgo County Judge, 100 East Cano Street, 2nd Floor, Edinburg, TX 78539 | Hidalgo County Drainage District No. 1, 902 North Doolittle Road, Edinburg, TX 78542 | Oct. 5, 2018 | 480334
Tarrant (FEMA Docket No.: B-1845) | City of Fort Worth (18-06-0617P) | The Honorable Betsy Price, Mayor, City of Fort Worth, 200 Texas Street, Fort Worth, TX 76102 | Transportation and Public Works Department, 200 Texas Street, Fort Worth, TX 76102 | Oct. 9, 2018 | 480596
Tarrant (FEMA Docket No.: B-1845) | City of Saginaw (18-06-0328P) | The Honorable Todd Flippo, Mayor, City of Saginaw, 333 West McLeroy Boulevard, Saginaw, TX 76179 | Public Works Department, 205 Brenda Lane, Saginaw, TX 76179 | Oct. 4, 2018 | 480610
Virginia:
Fauquier (FEMA Docket No.: B-1840) | Unincorporated areas of Fauquier County (17-03-1930P) | Mr. Paul S. McCulla, Fauquier County Administrator, 10 Hotel Street, Suite 204, Warrenton, VA 20186 | Fauquier County Zoning and Development Services Department, 29 Ashby Street, 3rd Floor, Warrenton, VA 20186 | Sep. 20, 2018 | 510055
Loudoun (FEMA Docket No.: B-1840) | Unincorporated areas of Loudoun County (18-03-0512P) | Mr. Tim Hemstreet, Loudoun County Administrator, P.O. Box 7000, Leesburg, VA 20177 | Loudoun County Department of Development, 1 Harrison Street Southeast, Leesburg, VA 20175 | Sep. 28, 2018 | 510090
West Virginia: Preston (FEMA Docket No.: B-1845) | Unincorporated areas of Preston County (18-03-0988P) | The Honorable T. Craig Jennings, President, Preston County Commission, 106 West Main Street, Suite 202, Kingwood, WV 26537 | Preston County Office of Emergency Management, 300 Rich Wolfe Drive, Kingwood, WV 26537 | Oct. 9, 2018 | 540160

[FR Doc. 2018-24628 Filed 11-9-18; 8:45 am]

BILLING CODE 9110-12-P